DEPARTMENT OF TRANSPORTATION

Federal Aviation Administration

14 CFR Part 39

[Docket No. FAA-2022-0805; Project Identifier MCAI-2021-00951-R]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model AS355E, AS355F, AS355F1, AS355F2, AS355N, and AS355NP helicopters. This proposed AD was prompted by the identification of certain parts needing maintenance actions, including life limits and maintenance tasks. This proposed AD would require incorporating into maintenance records requirements (airworthiness limitations), as specified in a European Union Aviation Safety Agency (EASA) AD, which is proposed for incorporation by reference (IBR). The FAA is proposing this AD to address the unsafe condition on these products.

DATES: The FAA must receive comments on this proposed AD by August 15, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this NPRM, contact EASA, Konrad-Adenauer-Ufer 3, 50668 Cologne, Germany; telephone +49 221 8999 000; email ADs@easa.europa.eu; internet www.easa.europa.eu. You may find the EASA material on the EASA website at https://ad.easa.europa.eu. For Airbus Helicopters service information identified in this NPRM, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. The EASA material is also available at https://www.regulations.gov by searching for and locating Docket No. FAA-2022-0805.

Examining the AD Docket

You may examine the AD docket at https://www.regulations.gov by searching for and locating Docket No. FAA-2022-0805; or in person at Docket Operations between 9 a.m. and 5 p.m., Monday through Friday, except Federal holidays. The AD docket contains this NPRM, the EASA AD, any comments received, and other information. The street address for Docket Operations is listed above.

FOR FURTHER INFORMATION CONTACT: Kristi Bradley, Program Manager, COS Program Management Section, Operational Safety Branch, Compliance & Airworthiness Division, FAA, 10101 Hillwood Parkway, Fort Worth, TX 76177; telephone (817) 222-5110; email kristin.bradley@faa.gov.

SUPPLEMENTARY INFORMATION:

Comments Invited

The FAA invites you to send any written relevant data, views, or arguments about this proposal. Send your comments to an address listed under ADDRESSES. Include “Docket No. FAA-2022-0805; Project Identifier MCAI-2021-00951-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, Program Manager, COS Program Management Section, Operational Safety Branch, Compliance & Airworthiness Division, FAA, 10101 Hillwood Parkway, Fort Worth, TX 76177; telephone (817) 222-5110; email kristin.bradley@faa.gov. Any commentary that the FAA receives that is not specifically designated as CBI will be placed in the public docket for this rulemaking.

Background

EASA, which is the Technical Agent for the Member States of the European Union, has issued EASA AD 2021-0193, dated August 20, 2021 (EASA AD 2021-0193) to correct an unsafe condition for Airbus Helicopters (AH), formerly Eurocopter, Eurocopter France, and Aerospatiale, Model AS 355 E, AS 355 F, AS 355 F1, AS 355 F2, AS 355 N, and AS 355 NP helicopters, all serial numbers. EASA AD 2021-0193 requires accomplishment of the actions in the applicable Airworthiness Limitations Section (ALS) as defined in EASA AD 2021-0193.

This proposed AD was prompted by the identification of certain parts needing maintenance actions, including life limits and maintenance tasks. The FAA is proposing this AD to address the failure of certain parts, which could result in the loss of control of the helicopter. See EASA AD 2021-0193 for additional background information.

Relationship Between Proposed AD and Other Relevant Rulemaking

EASA AD 2021-0193 also states that it takes over the requirements for Model AS 355 helicopters from EASA AD 2010-0006, dated January 7, 2010 (EASA AD 2010-0006) (which prompted FAA AD 2011-22-05 R1, Amendment 39-17765 (79 FR 14169, March 13, 2014) (AD 2011-22-05 R1)) and EASA AD 2015-0094, dated May 29, 2015 (EASA AD 2015-0094) (which prompted FAA AD 2016-25-20, Amendment 39-18746 (81 FR 94954, December 27, 2016) (AD 2016-25-20)). EASA AD 2021-0193 notes that the requirements of EASA AD 2010-0006 and EASA AD 2015-0094 have been incorporated into the applicable ALS specified in EASA AD 2021-0193.

Accordingly, this NPRM would not propose to supersede AD 2011-22-05 R1, or AD 2016-25-20. Rather, the FAA has determined that a stand-alone AD would be more appropriate to address the changes in EASA AD 2021-0193. Therefore, this proposed AD would require incorporating into maintenance records requirements (airworthiness limitations), as specified in the applicable ALS, as defined in EASA AD 2021-0193. Accomplishment of the proposed actions would then terminate all of the requirements of AD 2011-22-05 R1 and AD 2016-25-20 for Model AS355E, AS355F, AS355F1, AS355F2, AS355N, and AS355NP helicopters only.

Related Service Information Under 1 CFR Part 51

EASA AD 2021-0193 requires certain actions and associated thresholds and intervals, including life limits and maintenance tasks.

This material is reasonably available because the interested parties have access to it through their normal course of business or by the means identified in the ADDRESSES section.

Other Related Service Information

The FAA reviewed Airbus Helicopters AS 355 E Chapter 04 ALS Revision 010, dated September 14, 2020; Airbus Helicopters AS 355 F Chapter 04 ALS Revision 010, dated September 14, 2020; Airbus Helicopters AS 355 F1 Chapter 04 ALS Revision 010, dated September 14, 2020; Airbus Helicopters AS 355 F2 Chapter 04 ALS Revision 011, dated September 14, 2020; Airbus Helicopters AS 355 N Chapter 04 ALS, Revision 010, dated September 14, 2020; and Airbus Helicopters AS 355 NP Chapter 04 ALS Revision 009, dated February 4, 2019. This service information specifies procedures for mandatory actions for continued airworthiness.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Proposed AD Requirements in This NPRM

This proposed AD would require incorporating into maintenance records requirements (airworthiness limitations), which are specified in EASA AD 2021-0193 described previously, except as discussed under “Differences Between this Proposed AD and EASA AD 2021-0193.”

ADs Mandating Airworthiness Limitations

The FAA has previously mandated airworthiness limitations by mandating each airworthiness limitation task (e.g., inspections and replacements (life limits)) as an AD requirement or issuing ADs that require revising the ALS of the existing maintenance manual or instructions for continued airworthiness to incorporate new or revised inspections and life limits. This proposed AD, however, would require operators to incorporate into maintenance records required by 14 CFR 91.417(a)(2) or 135.439(a)(2), as applicable for your rotorcraft, the requirements (airworthiness limitations) specified in EASA AD 2021-0193. The FAA does not intend this as a substantive change. For these ADs, the ALS requirements for operators are the same but are complied with differently. Requiring the incorporation of the new ALS requirements into the maintenance records, rather than requiring individual ALS tasks (e.g., repetitive inspections and replacements), requires operators to record AD compliance once after updating the maintenance records, rather than after every time the ALS task is completed.

In addition, paragraph (h) of the proposed AD allows operators to incorporate later approved revisions of the ALS document as specified in the provisions of the “Ref. Publications” section of EASA AD 2021-0193 without the need for an alternative method of compliance (AMOC).

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0193 by reference in the FAA final rule. Service information referenced in EASA AD 2021-0193 for compliance will be available at https://www.regulations.gov by searching for and locating Docket No. FAA-2022-0805 after the FAA final rule is published.

Differences Between This Proposed AD and EASA AD 2021-0193

Paragraph (1) of EASA AD 2021-0193 requires compliance with actions and associated thresholds and intervals, including life limits and maintenance tasks, from the effective date of EASA AD 2021-0193. Paragraph (3) of EASA AD 2021-0193 requires incorporating the actions and associated thresholds and intervals, including life limits and maintenance tasks, into the approved maintenance program within 12 months after the effective date of EASA AD 2021-0193. This proposed AD would require incorporating into maintenance records requirements (airworthiness limitations) within 30 days after the effective date of this AD.

Costs of Compliance

The FAA estimates that this AD, if adopted as proposed, would affect 45 helicopters of U.S. Registry. Labor rates are estimated at $85 per work-hour. Based on these numbers, the FAA estimates the following costs to comply with this proposed AD.

Incorporating into maintenance records, requirements (airworthiness limitations) would require about 2 work-hours for an estimated cost of $170 per helicopter and $7,650 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2022-0805; Project Identifier MCAI-2021-00951-R.

(a) Comments Due Date

The FAA must receive comments on this airworthiness directive (AD) by August 15, 2022.

(b) Affected ADs

This AD affects AD 2011-22-05 R1, Amendment 39-17765 (79 FR 14169, March 13, 2014) (AD 2011-22-05 R1); and AD 2016-25-20, Amendment 39-18746 (81 FR 94954, December 27, 2016) (AD 2016-25-20).

(c) Applicability

This AD applies to all Airbus Helicopters Model AS355E, AS355F, AS355F1, AS355F2, AS355N, and AS355NP helicopters, certificated in any category.

(d) Subject

Joint Aircraft Service Component (JASC) Code: 6410, Tail Rotor Blades.

(e) Unsafe Condition

This AD was prompted by the identification of certain parts needing maintenance actions, including life limits and maintenance tasks. The FAA is issuing this AD to address the failure of certain parts, which could result in the loss of control of the helicopter.

(f) Compliance

Comply with this AD within the compliance times specified, unless already done.

(g) Required Action

Within 30 days after the effective date of this AD, incorporate into maintenance records required by 14 CFR 91.417(a)(2) or 135.439(a)(2), as applicable for your rotorcraft, the requirements (airworthiness limitations) specified in paragraph (1) of European Union Aviation Safety Agency (EASA) AD 2021-0193, dated August 20, 2021 (EASA AD 2021-0193).

(h) Provisions for Alternative Requirements (Airworthiness Limitations)

After the actions required by paragraph (g) of this AD have been done, no alternative requirements (airworthiness limitations) are allowed unless they are approved as specified in the provisions of the “Ref. Publications” section of EASA AD 2021-0193.

(i) Terminating Action for ADs 2011-22-05 R1 and 2016-25-20

(1) Accomplishing the actions required by this AD terminates all requirements of AD 2011-22-05 R1 for Model AS355E, AS355F, AS355F1, AS355F2, AS355N, and AS355NP helicopters only.

(2) Accomplishing the actions required by this AD terminates all requirements of AD 2016-25-20 for Model AS355E, AS355F, AS355F1, AS355F2, AS355N, and AS355NP helicopters only.

(j) Special Flight Permit

Special flight permits in accordance with 14 CFR 21.197 and 21.199, are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(1) of this AD. Information may be emailed to: 9-AVS-AIR-730-AMOC@faa.gov.

(2) Before using any approved AMOC, notify your appropriate principal inspector, or lacking a principal inspector, the manager of the local flight standards district office/certificate holding district office.

(l) Related Information

(1) For more information about this AD, contact Kristi Bradley, Program Manager, COS Program Management Section, Operational Safety Branch, Compliance & Airworthiness Division, FAA, 10101 Hillwood Parkway, Fort Worth, TX 76177; telephone (817) 222-5110; email kristin.bradley@faa.gov

(2) For EASA AD 2021-0193, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0805.

Issued on June 23, 2022.
Ross Landes,
Deputy Director for Regulatory Operations, Compliance & Airworthiness Division, Aircraft Certification Service.

[FR Doc. 2022-13863 Filed 6-29-22; 8:45 am]

BILLING CODE 4910-13-P